DEPARTMENT OF EDUCATION

Final Waiver and Extension of the Project Period for the Literacy Information and Communication System Regional Professional Development Centers

Catalog of Federal Domestic Assistance (CFDA) Number: 84.191B.

AGENCY: Career, Technical, and Adult Education, Department of Education.

ACTION: Final Waiver and Extension.

SUMMARY: For the 36-month grant projects funded in fiscal year (FY) 2011, using FY 2010 funds, under the Literacy Information and Communication System (LINCS) Regional Professional Development Centers (RPDC) program, the Secretary hereby waives the restriction against project period extensions involving the obligation of additional Federal funds, and extends the project period of the four LINCS RPDC grants for an additional 12 months. This enables the four current LINCS RPDC grantees that received awards under the FY 2011 competition that were extended for one additional year through FY 2014 using 2013 funds (through September 30, 2015), to seek another continuation award for one additional year through FY 2015 with FY 2014 funds (through September 30, 2016); and we will not announce a new LINCS RPDC competition for FY 2015.

DATES: This final waiver and extension of the project period is effective September 28, 2015.

FOR FURTHER INFORMATION CONTACT: Patricia Bennett, U.S. Department of Education, 400 Maryland Ave. SW., Room 11013, Potomac Center Plaza, Washington, DC 20202. Telephone: (202) 245-7758 or by email at: patricia.bennett@ed.gov.

If you use a telecommunications device for the deaf (TDD) or a text telephone (TTY), call the Federal Relay Service (FRS), toll free, at 1-800-877-8339.

SUPPLEMENTARY INFORMATION: On June 2, 2014, we published in the Federal Register (79 FR 31315) a final waiver and extension for the current 36-month grant projects under the Literacy Information and Communication System (LINCS) Regional Professional Development Centers (RPDC) program in which the Secretary waived the restriction against project period extensions involving the obligation of additional Federal funds and extended for an additional 12 months the project period of the four LINCS RPDC grants. The Secretary took this action because we did not believe that it was in the public interest to hold a LINCS RPDC competition for FY 2014, (through September 30, 2015), the same year in which the Department's LINCS resource collection contract and the LINCS technical services contract would end. This one-year extension of the LINCS RPDC project period through FY 2014 ensured seamless technical assistance service delivery to our adult education customers.

On July 24, 2015, we published in the Federal Register (80 FR 44088) (July 2015 notice) a proposed waiver of 34 CFR 75.261(a) and (c)(2), which restricts project period extensions involving the obligation of additional Federal funds, as it applies to the LINCS RPDC. The Secretary also proposed in the July 2015 notice to extend the project period of LINCS RPDC grants for an additional 12 months to enable the four current LINCS RPDC grantees that received awards under the FY 2011 competition to seek a continuation award for one additional year through FY 2015 (through September 30, 2016), with FY 2014 funds, in accordance with the transition authority under section 503(c) of the Workforce Innovation and Opportunity Act (WIOA), 29 U.S.C. 3343(c), which grants the Secretary broad discretion to take appropriate action to provide for the orderly transition from the prior Adult Education and Family Literacy Act (AEFLA) (20 U.S.C. 9201 et seq.) to AEFLA as authorized under WIOA. The Secretaries of Education and Labor have published proposed rules implementing WIOA and are also developing guidance for the State and local grantees that implement WIOA programs, including AEFLA. We did not believe that it would be in the public interest to hold a LINCS RPDC competition during a period of significant change for State grantees transitioning to new program requirements under WIOA, as this is a time when support from the four experienced LINCS RPDC grantees would be particularly critical to maintaining needed technical assistance and professional development for State grantees and adult educators.

There are no substantive differences between the proposed and final waivers and extensions.

Public Comment: In the July 2015 notice, the Secretary invited comments about the potential effect that this waiver and extension of the project period would have on LINCS RPDCs and on applicants that may be eligible to apply for grant awards under any new LINCS RPDC notice inviting applications, should there be one. The July 2015 notice contained background information and our reasons for proposing the waiver and extension of the project period.

We received 12 comments in response to our proposal, one of which did not address the proposed waiver and extension. Generally, we do not address comments that raise concerns not related to the proposed waiver and extension.

Analysis of Comments and Changes

Comment: Each of the 11 commenters who addressed the proposed waiver and extension: Supported it, discussed the benefits and accomplishments of current LINCS RPDC projects, and stated that an extension of the current project period would allow grantees to continue to provide quality professional development during a period of transition from the requirements of the prior AEFLA to the new requirements of AEFLA under WIOA.

Response: We agree with the 11 commenters that extending the current LINCS RPDC grant period will allow current LINCS RPDC grantees to request continuation awards with which they could (1) continue to work toward accomplishing the goals and objectives stated in their 2011 LINCS RPDC grant applications, and (2) provide quality professional development during a period of transition from the requirements of the prior AEFLA to the requirements of AEFLA under WIOA.

Change: None.

Waiver of Delayed Effective Date

The Administrative Procedure Act (APA) requires that a substantive rule must be published at least 30 days before its effective date, except as otherwise provided for good cause (5 U.S.C. 553(d)(3)). The Secretary has determined that a delayed effective date is unnecessary and contrary to the public interest. It is unnecessary because we received only 11 public comments on this action, all of which supported our proposal and we have not made any substantive changes to the proposal. It is contrary to public interest because we would not be able to make timely continuation grants to the four affected entities with the delay. Therefore, the Secretary waives the APA's delayed effective date provision for good cause.

Regulatory Flexibility Act Certification

The Secretary certifies that the waiver and extension and the activities required to support an additional year of funding will not have a significant economic impact on a substantial number of small entities.

The small entities that will be affected by this waiver and extension are the four currently-funded LINCS RPDC grantees and any potential applicants for LINCS RPDC grants in FY 2015.

The Secretary further certifies that the waiver and extension will not have a significant economic impact on these LINCS RPDC entities because the waiver and extension impose minimal compliance costs to extend projects already in existence, and the activities required to support the additional year of funding will not impose additional regulatory burdens or require unnecessary Federal supervision. Furthermore, the costs of carrying out these activities could be paid for with program funds.

Paperwork Reduction Act of 1995

This final waiver and extension does not contain any information collection requirements.

Intergovernmental Review

The LINCS RPDC is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at www.federalregister.gov. Specifically, through the advanced search feature at this site, you can limit your search to documents published by the Department.

Program Authority: 29 U.S.C. 3332(c)(2)(G).

Dated: September 22, 2015.
Johan E. Uvin,
Deputy Assistant Secretary, Delegated the Authority of Assistant Secretary for the Office for Career, Technical, and Adult Education.

[FR Doc. 2015-24590 Filed 9-25-15; 8:45 am]

BILLING CODE 4000-01-P